ENVIRONMENTAL PROTECTION AGENCY

40 CFR Part 52

[EPA-R06-OAR-2015-0850; FRL-9993-58-Region 6]

Air Plan Approval; New Mexico; Approval of Revised Statutes; Error Correction

AGENCY: Environmental Protection Agency (EPA).

ACTION: Partial withdrawal of direct final rule.

SUMMARY: The Environmental Protection Agency (EPA) is withdrawing a portion of a direct final rule published on February 27, 2019 because relevant adverse comments were received. The rule pertained to EPA approval of revisions to New Mexico's State Implementation Plan (SIP) incorporating updates to SIP-approved New Mexico statutes, as well as removing several provisions from the SIP, as EPA's previous approval of these provisions into the SIP was done in error. In a separate subsequent final rulemaking, EPA will address the portion of the direct final on which relevant adverse comments were received.

DATES: Effective May 16, 2019, the EPA withdraws amendatory instructions 2.b. and 2.h. in the direct final rule published at 84 FR 6334, on February 27, 2019.

FOR FURTHER INFORMATION CONTACT: Jeff Riley, Infrastructure and Ozone Section, 1445 Ross Avenue, Dallas, Texas, Suite 700, Dallas, TX 75202, 214-665-8542, riley.jeffrey@epa.gov.

SUPPLEMENTARY INFORMATION: Throughout this document “we,” “us,” and “our” means the EPA. On February 27, 2019 we published a direct final rule to approve revisions to the New Mexico SIP incorporating updates to SIP-approved New Mexico statutes, as well as removing several provisions from the SIP, as EPA's previous approval of these provisions into the SIP was done in error (84 FR 6334). The direct final rule was published without prior proposal because we anticipated no adverse comments. We stated in the direct final rule that if we received relevant adverse comments by March 29, 2019, we would publish a timely withdrawal in the Federal Register. We received relevant adverse comments regarding the removal of New Mexico Statutes Annotated 1978 (NMSA) sections 74-2-6, 74-2-12, and 74-2-13 and accordingly are withdrawing the portion of the direct final rule on which adverse comments were received. In a separate subsequent final rulemaking we will address the comments received.

List of Subjects in 40 CFR Part 52

Environmental protection, Air pollution control, Incorporation by reference, Nitrogen dioxide, Ozone, Particulate matter, Reporting and recordkeeping requirements, Sulfur oxides, Volatile organic compounds.

Dated: May 9, 2019.
David Gray,
Acting Regional Administrator, Region 6.

Accordingly, amendatory instructions 2.b. and 2.h., published in the Federal Register on February 27, 2019 (84 FR 6334), which were to become effective on May 28, 2019, are withdrawn as of May 16, 2019.

[FR Doc. 2019-09942 Filed 5-15-19; 8:45 am]

BILLING CODE 6560-50-P